DEPARTMENT OF STATE

Bureau of Oceans, International Environmental and Scientific Affairs

[Public Notice No. 3441]

Public Meeting to Discuss Progress on International Harmonization of Chemical Hazard Classification and Labeling

SUMMARY: The United States government is preparing for a series of international meetings to further develop a globally harmonized system (GHS) of chemical hazard classification and labeling. The Department of State will hold a public meeting to update recent activities and preview upcoming international meetings on chemical hazard communication and GHS implementation.

The public meeting will take place on Tuesday, October 24, 2000, from 1:00 pm until 3:00 pm, in Room N5437 B&C, at the U.S. Department of Labor, 200 Constitution Avenue NW., Washington, DC. Attendees should use the entrance at C and Third Streets NW. No advance registration is necessary. However, attendees should bring picture identification with them. For further information, please contact Marie Ricciardone, U.S. Department of State, Office of Environmental Policy (OES/ENV), Room 4325, 2201 C Street NW, Washington, DC 20520; telephone (202) 736-4660; fax (202) 647-5947; e-mail RicciardoneMD@state.gov.

SUPPLEMENTARY INFORMATION: The U.S. Department of State is issuing this notice to help ensure that interested organizations and individuals are informed about efforts to internationally harmonize chemical hazard classification and labeling, and have an opportunity to offer comments. Agencies participating in the U.S. government interagency group include: Department of State, Environmental Protection Agency, Department of Transportation, Occupational Safety and Health Administration, Consumer Product Safety Commission, Food and Drug Administration, Department of Commerce, Department of Agriculture, Department of Energy, Office of the U.S. Trade Representative, and National Institute of Environmental Health Sciences. For more complete information on the GHS process, please refer to State Department Public Notice 2526, pages 15951-15957 of the Federal Register of April 3, 1997.

This meeting will summarize the GHS meetings that have taken place since the previous public meeting on August 10, 2000 (see Department of State Public Notice 3367 on pages 15951-15957 of the Federal Register of July 21, 2000):

• The Seventh Meeting of the Organization for Economic Cooperation and Development (OECD) Extended Expert Group on Aquatic Environmental Hazards (Paris, September 4-5) developed guidance for applying harmonized hazard classification criteria for the aquatic toxicity of chemical substances and further developed harmonized criteria for chemical mixtures.

• The Tenth Meeting of the OECD Task Force on Harmonization of Classification and Labeling (Paris, September 6-8) reached agreement on harmonized hazard classification criteria for several health effects for chemical mixtures; approved hazard classification criteria for target organ and systemic toxicity; and agreed to initiate the development of hazard classification criteria for aspiration hazards, water-activated corrosivity and toxicity, and respiratory irritation.

Members of the interagency working group will also outline U.S. preparations for upcoming international meetings:

• The Sixth Meeting of the International Labor Organization (ILO) Working Group of Hazard Communication, October 30-November 2, Rome, Italy will develop and refine options for harmonized chemical hazard communication, such as labels and material safety data sheets.

• The Seventeenth Consultation of the IOMC Coordinating Group for the Harmonization of Chemical Classification Systems, November 2-3, Rome, Italy will consider the need for GHS guidance and other implementation issues.

• The Twenty-first Session of the United Nations Committee of Experts on the Transport of Dangerous Goods, December 5-14, Geneva, Switzerland will host a working group on classification criteria for physical hazards, focusing on aerosol flammability.

Interested organizations and individuals are invited to present their views orally and/or in writing at the public meeting. Participants may address other topics relating to harmonization of chemical hazard classification and labeling systems, and identify issues of concern. Those organizations/individuals that cannot attend the October 24th meeting, but wish to submit a written comment, should provide Eunice Mourning, Office of Environmental Policy, U.S. Department of State (telephone 202-647-9266; fax 202-647-5947) with their statement and/or name, organization, address, telephone and fax numbers, and e-mail address. All written comments will be placed in the OSHA public docket (H-022H), which is open Monday through Friday, from 10 am until 4 pm, at the Department of Labor, Room 2625, 200 Constitution Avenue NW, Washington, DC; telephone 202-219-7894; fax: 202-219-5046. Interested organizations /individuals that wish to receive future notifications of GHS-related developments by email should contact Mary Frances Lowe of the U.S. Environmental Protection Agency at “lowe.maryfrances@epa.gov”.

Dated: October 2, 2000.
Daniel T. Fantozzi,
Director, Office of Environmental Policy, Department of State

[FR Doc. 00-26363 Filed 10-12-00; 8:45 am]

BILLING CODE 4710-06-U